COMMITTEE FOR PURCHASE FROM PEOPLE WHO ARE BLIND OR SEVERELY DISABLED

Procurement List; Proposed Additions and Deletions

AGENCY: Committee for Purchase From People Who Are Blind or Severely Disabled.

ACTION: Proposed additions to and deletions from the procurement list.

SUMMARY: The Committee is proposing to add services to the Procurement List that will be provided by nonprofit agencies employing persons who are blind or have other severe disabilities, and deletes services previously provided by such agencies.

Comments Must Be Received on or Before: 3/10/2014.

ADDRESSES: Committee for Purchase From People Who Are Blind or Severely Disabled, 1401 S. Clark Street, Suite 10800, Arlington, Virginia 22202-4149.

For Further Information or to Submit Comments Contact: Patricia Briscoe, Telephone: (703) 603-7740, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Additions

If the Committee approves the proposed additions, the entities of the Federal Government identified in this notice will be required to procure the services listed below from nonprofit agencies employing persons who are blind or have other severe disabilities.

The following services are proposed for addition to Procurement List for provision by the nonprofit agencies listed:

Services

Service Type/Location: Janitorial Service, Department of Homeland Security (DHS), Immigration and Customs Enforcement (ICE), Executive Office for Immigration Review, Oakdale Service Processing Center, 1010 East Whatley Road, Oakdale, LA

NPA: Calcasieu Association for Retarded Citizens, Inc., Lake Charles, LA

Contracting Activity: DEPT OF HOMELAND SECURITY, U.S. IMMIGRATION AND CUSTOMS ENFORCEMENT, COMPLIANCE & REMOVALS, WASHINGTON, DC

Service Type/Location: Furniture Design and Configuration Services, Pennsylvania National Guard, Fort Indiantown Gap, PA

NPA: Industries for the Blind, Inc., West Allis, WI

Contracting Activity: DEPT OF THE ARMY, W7NX USPFO ACTIVITY PA ARNG, ANNVILLE, PA

Service Type/Location: Supply Room Services, Social Security Administration (SSA) Regional Office, 1301 Young St., Dallas TX

NPA: Dallas Lighthouse for the Blind, Inc., Dallas, TX

Contracting Activity: SOCIAL SECURITY ADMINISTRATION (SSA) OFFICE OF ACQUISITION AND GRANTS, BALTIMORE, MD

Deletions

The following services are proposed for deletion from the Procurement List:

Services

Service Type/Location: Janitorial/Custodial, U.S. Army Reserve Center, 6482 Aurelia Street Col Harold Steele, Pittsburgh, PA

NPA: Life'sWork of Western PA, Pittsburgh, PA

Contracting Activity: DEPT OF THE ARMY, W6QM MICC CTR-FT DIX (RC), FORT DIX, NJ

Service Type/Location: Janitorial/Custodial, U.S. Army Reserve Center, 215 Center Street Major Charles D. Stoops, Punxsutawney, PA

NPA: UNKNOWN

Contracting Activity: DEPT OF THE ARMY, W6QM MICC CTR-FT DIX (RC), FORT DIX, NJ

Patricia Briscoe,
Deputy Director, Business Operations, (Pricing and Information Management).

[FR Doc. 2014-02652 Filed 2-6-14; 8:45 am]

BILLING CODE 6353-01-P